DEPARTMENT OF THE INTERIOR

National Park Service

[NPS-WASO-NAGPRA-19470;PPWOCRADN0-PCU00RP14.R50000]

Notice of Inventory Completion: Pima County Office of the Medical Examiner, Tucson, AZ

AGENCY: National Park Service, Interior.

ACTION: Notice.

SUMMARY: The Pima County Office of the Medical Examiner (PCOME) has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the PCOME. If no additional requestors come forward, transfer of control of the human remains to the Indian tribes or Native Hawaiian organizations stated in this notice may proceed.

DATES: Representatives of any Indian tribe or Native Hawaiian organization not identified in this notice that wish to request transfer of control of these human remains should submit a written request with information in support of the request to the PCOME at the address in this notice by November 16, 2015.

ADDRESSES: Dr. Bruce Anderson, Forensic Anthropologist, Pima County Office of the Medical Examiner, 2825 E District Street, Tucson, AZ 85714, telephone (520) 724-8600, email bruce.anderson@pima.gov.

SUPPLEMENTARY INFORMATION: Notice is here given in accordance with the Native American Graves Protection and Repatriation Act (NAGPRA), 25 U.S.C. 3003, of the completion of an inventory of human remains under the control of the PCOME, Tucson, AZ. The human remains were removed from an unknown location within Navajo County, AZ.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the PCOME professional staff, in consultation with representatives of Ak Chin Indian Community of the Maricopa (Ak Chin) Indian Reservation, Arizona; Fort McDowell Yavapai Nation, Arizona; Gila River Indian Community of the Gila River Indian Reservation, Arizona; Hopi Tribe of Arizona; Navajo Nation, Arizona, New Mexico & Utah; Pascua Yaqui Tribe of Arizona; Salt River Pima-Maricopa Indian Community of the Salt River Reservation, Arizona; San Carlos Apache Tribe of the San Carlos Reservation, Arizona; Tohono O'odham Nation of Arizona; White Mountain Apache Tribe of the Fort Apache Reservation, Arizona; and the Zuni Tribe of the Zuni Reservation, New Mexico.

History and Description of the Remains

In 1989, human remains representing, at minimum, one individual were removed from an unknown location in Navajo County, AZ. The human remains were found by hikers and were recovered by the Navajo Department of Public Safety (which is analogous to the current Navajo Police Department), on an unknown date. On October 17, 1989, the human remains were transferred to the PCOME, which were then analyzed by Dr. Walter H. Birkby, a forensic anthropologist at the PCOME. The human remains were designated Forensic Anthropology case FA#89-038, which also indicates that the medical examiners at the PCOME had no involvement in this particular case. According to Dr. Birkby, the human remains were of an adult female of Native American ancestry and likely historic or prehistoric. The human remains have since resided within the PCOME as an unidentified case, and were rediscovered by Dr. Bruce Anderson, the current forensic anthropologist at the PCOME, in 2012. In 2012, an inventory was made but no analysis was done. No known individuals were identified and no associated funerary objects are present.

Determinations Made by the PCOME

Officials of the PCOME have determined that:

• Pursuant to 25 U.S.C. 3001(9), the human remains described in this notice may be Native American based on possible prehistoric condition.

• Pursuant to 25 U.S.C. 3001(9), the human remains described in this notice represent the physical remains of one individual of Native American ancestry.

• Pursuant to 25 U.S.C. 3001(2), a relationship of shared group identity cannot be reasonably traced between the Native American human remains and any present-day Indian tribe.

• Pursuant to 25 U.S.C. 3001(15), the land from which the Native American human remains were removed is the tribal land of Navajo Nation, Arizona, New Mexico & Utah.

• According to final judgments of the Indian Claims Commission or the Court of Federal Claims, the land from which the Native American human remains were removed is the aboriginal land of Hopi Tribe of Arizona; Navajo Nation of Arizona, New Mexico & Utah; and Zuni Tribe of the Zuni Reservation, New Mexico.

• Treaties, Acts of Congress, or Executive Orders, indicate that the land from which the Native American human remains were removed is the aboriginal land of Hopi Tribe of Arizona; Navajo Nation of Arizona, New Mexico & Utah; and Zuni Tribe of the Zuni Reservation, New Mexico.

• Pursuant to 43 CFR 10.11(c)(1), the disposition of the human remains may be to Hopi Tribe of Arizona; Navajo Nation, Arizona, New Mexico & Utah; and Zuni Tribe of the Zuni Reservation, New Mexico.

Additional Requestors and Disposition

Representatives of any Indian tribe or Native Hawaiian organization not identified in this notice that wish to request transfer of control of these human remains should submit a written request with information in support of the request to Dr. Bruce Anderson, Forensic Anthropologist, Pima County Office of the Medical Examiner, 2825 E District Street, Tucson, AZ 85714, telephone (520) 724-8600, email bruce.anderson@pima.gov, by November 16, 2015. After that date, if no additional requestors have come forward, transfer of control of the human remains to Hopi Tribe of Arizona; Navajo Nation, Arizona, New Mexico & Utah; and Zuni Tribe of the Zuni Reservation, New Mexico may proceed.

The PCOME is responsible for notifying Hopi Tribe of Arizona; Navajo Nation, Arizona, New Mexico & Utah; and Zuni Tribe of the Zuni Reservation, New Mexico, that this notice has been published.

Dated: September 30, 2015.
Melanie O'Brien,
Manager, National NAGPRA Program.

[FR Doc. 2015-26335 Filed 10-14-15; 8:45 am]

BILLING CODE 4312-50-P